SMALL BUSINESS ADMINISTRATION

[Disaster Declaration #15798 and #15799; California Disaster Number CA-00295]

Presidential Declaration of a Major Disaster for the State of California

AGENCY: U.S. Small Business Administration.

ACTION: Notice.

SUMMARY: This is a Notice of the Presidential declaration of a major disaster for the State of California (FEMA-4407-DR), dated 11/12/2018.

Incident: Wildfires.

Incident Period: 11/08/2018 and continuing.

DATES: Issued on 11/12/2018.

Physical Loan Application Deadline Date: 01/11/2019.

Economic Injury (EIDL) Loan Application Deadline Date: 08/12/2019.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 11/12/2018, applications for disaster loans may be filed at the address listed above or other locally announced locations.

The following areas have been determined to be adversely affected by the disaster:

Primary Counties (Physical Damage and Economic Injury Loans): Butte, Los Angeles, Ventura

Contiguous Counties (Economic Injury Loans Only):

California: Colusa, Glenn, Kern, Orange, Plumas, San Bernardino, Santa Barbara, Sutter, Tehama, Yuba

The Interest Rates are:

| Percent
For Physical Damage:
Homeowners with Credit Available Elsewhere | 4.000
Homeowners without Credit Available Elsewhere | 2.000
Businesses with Credit Available Elsewhere | 7.480
Businesses without Credit Available Elsewhere | 3.740
Non-Profit Organizations with Credit Available Elsewhere | 2.750
Non-Profit Organizations without Credit Available Elsewhere | 2.750
For Economic Injury:
Businesses & Small Agricultural Cooperatives without Credit Available Elsewhere | 3.740
Non-Profit Organizations without Credit Available Elsewhere | 2.750

The number assigned to this disaster for physical damage is 157985 and for economic injury is 157990.

(Catalog of Federal Domestic Assistance Number 59008)

James Rivera,
Associate Administrator for Disaster Assistance.

[FR Doc. 2018-26717 Filed 12-10-18; 8:45 am]

BILLING CODE 8025-01-P